DEPARTMENT OF COMMERCE

International Trade Administration

[A-533-877]

Stainless Steel Flanges From India: Final Results of Antidumping Duty Administrative Review and Final Determination of No Shipments; 2020-2021

AGENCY: Enforcement and Compliance, International Trade Administration, Department of Commerce.

SUMMARY: The U.S. Department of Commerce (Commerce) determines that exporters/producers of stainless steel flanges from India made sales of subject merchandise at prices below normal value during the period of review (POR) October 1, 2020, through September 30, 2021. We continue to find that Emerson Process Management (Emerson) and Echjay Forgings Private Limited (Echjay) had no reviewable shipments of subject merchandise during the POR.

DATES: Applicable March 7, 2023.

FOR FURTHER INFORMATION CONTACT: Benito Ballesteros or Christopher Maciuba, AD/CVD Operations, Office V, Enforcement and Compliance, International Trade Administration, U.S. Department of Commerce, 1401 Constitution Avenue NW, Washington, DC 20230; telephone: (202) 482-7425 or (202) 482-0413, respectively.

SUPPLEMENTARY INFORMATION:

Background

Commerce selected two companies, Chandan Steel Limited (Chandan) and Goodluck India Limited (Goodluck),¹ for individual examination in this review. On November 4, 2022, Commerce published the Preliminary Results and invited interested parties to comment.² On December 17, 2022, Echjay submitted a case brief.³ No other interested parties commented on the Preliminary Results. For a complete description of the events that occurred since the Preliminary Results, see the Issues and Decision Memorandum.⁴ Commerce conducted this administrative review in accordance with section 751 of the Tariff Act of 1930, as amended (the Act).

¹ We initiated a review on both “Good Luck Engineering Co.” and “Goodluck India Ltd.” See Initiation of Antidumping and Countervailing Duty Administrative Reviews, 86 FR 67685, 67686 (November 29, 2021). Subsequently, the company reported that Good Luck Engineering Co. is not a separate entity and is instead a business unit of Goodluck India Ltd. For the final results, the dumping margin calculated for Goodluck applies to entries from its business unit, Good Luck Engineering Co.

² See Stainless Steel Flanges from India: Preliminary Results of Antidumping Duty Administrative Review, Preliminary No Shipment Determination, and Partial Rescission; 2020-2021, 87 FR 66645 (November 4, 2022) (Preliminary Results) and accompanying Preliminary Decision Memorandum.

³ See Echjay's Letter, “Case Brief,” dated December 16, 2022.

⁴ See Memorandum, “Stainless Steel Flanges from India: Issues and Decision Memorandum for the Final Results of the Antidumping Duty Administrative Review; 2020-2021,” dated concurrently with, and hereby adopted by, this notice (Issues and Decision Memorandum).

Scope of the Order

The merchandise covered by the order is stainless steel flanges from India. For a complete description of the scope, see the Issues and Decision Memorandum.⁵

⁵ Id.

Analysis of Comments Received

In the Issues and Decision Memorandum, we address the sole issue raised in the case brief submitted by Echjay, as reflected in Appendix I of this notice.⁶ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁶ Id.

Changes Since the Preliminary Results

We made no changes to the Preliminary Results based on comments from interested parties.⁷ However, in the Preliminary Results, we stated our intention to update the applicable countervailing duty (CVD) offset rate in Chandan's and Goodluck's margin calculation, once the new rates became available.⁸ Therefore, for the final results, we are updating the applicable CVD offset rates with the subsidy rates from the most recently-completed segment of the companion CVD proceeding (i.e., the final results of the 2020 administrative review).⁹

⁷ Id.

⁸ See Preliminary Decision Memorandum at 11-12.

⁹ See Memoranda, “Final Analysis Memorandum for Chandan Steel Limited,” dated concurrently with this notice; and “Final Analysis Memorandum for Goodluck India Limited,” dated concurrently with this notice.

Final Determination of No Shipments

We preliminarily found that Emerson and Echjay had no reviewable shipments of subject merchandise during the POR.¹⁰ Based on the comments received from Echjay, we continue to find that Echjay had no reviewable shipments.¹¹ Moreover, no party commented on the Preliminary Results regarding the no-shipment decision for Emerson. Therefore, for these final results, we continue to find that these companies had no reviewable shipments of subject merchandise during the POR, and we will issue appropriate instructions to U.S. Customs and Border Protection (CBP) based on these final results.

¹⁰ See Preliminary Results, 87 FR at 66646.

¹¹ See Issues and Decision Memorandum at Comment.

Rate for Companies Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in a less-than-fair-value (LTFV) investigation, for guidance. Under section 735(c)(5)(A) of the Act, the all-others rate is normally “an amount equal to the weighted-average of the estimated weighted-average dumping margins established for exporters and producers individually investigated, excluding any zero or de minimis margins, and any margins determined entirely {on the basis of facts available}.”

For the final results, Commerce calculated estimated weighted-average dumping margins for Chandan and Goodluck that are not zero, de minimis, or based entirely on facts otherwise available. Accordingly, Commerce has continued to calculate the rate for companies not selected for individual examination using a weighted average of the margins calculated for Chandan and Goodluck weighted by each respondent's publicly-ranged total U.S. sale values.¹²

¹² See Memorandum, “Calculation of Margin for Respondents Not Selected for Individual Examination,” dated concurrently with this notice; see also, e.g., Xanthan Gum from the People's Republic of China: Preliminary Results of the Antidumping Duty Administrative Review, and Partial Rescission; 2018-2019, 85 FR 75686, 74687 (November 23, 2020), unchanged in Xanthan Gum from the People's Republic of China: Final Results of Antidumping Duty Administrative Review; 2018-2019, 86 FR 16189 (March 26, 2021); Emulsion Styrene-Butadiene Rubber from the Republic of Korea: Preliminary Results of the Administrative Review of the Antidumping Duty Order; 2018-2019, 85 FR 39534 (July 1, 2020), unchanged in Emulsion Styrene-Butadiene Rubber from the Republic of Korea: Final Results of the Administrative Review of the Antidumping Duty Order; 2018-2019, 85 FR 67512 (October 23, 2020); Albemarle Corp. v. United States, 821 F. 3d 1345 (Fed. Cir. 2016).

Final Results of Administrative Review

The final estimated weighted-average dumping margins are listed below for the POR:

Exporter/producer | Weighted- average dumping margin (percent)
Chandan Steel Limited | 0.65
Goodluck India Limited ¹³ | 50.72
Companies Not Selected for Individual Examination ¹⁴ | 13.22

Disclosure

¹³ This rate applies to the following business unit: Goodluck India Limited and Good Luck Engineering Co.

¹⁴ See Appendix II for a full list of these companies.

We intend to disclose the calculations performed for the final results within five days of the publication of this notice in the Federal Register, in accordance with 19 CFR 351.224(b).

Assessment Rates

Pursuant to section 751(a)(2)(C) of the Act, and 19 CFR 351.212(b)(1), Commerce has determined, and CBP shall assess, antidumping duties on all appropriate entries of subject merchandise covered by this review. Pursuant to 19 CFR 351.212(b)(1), for Chandan and Goodluck, we calculated importer-specific ad valorem assessment rates based on the ratio of the total amount of dumping calculated for the examined sales to the total entered value of the sales.

For entries of subject merchandise during the POR produced any of these companies under review for which they did not know their merchandise was destined for the United States, we will instruct CBP to liquidate unreviewed entries at the all-others rate if there is no rate for the intermediate company(ies) involved in the transaction.

For the companies which were not selected for individual examination, we will assign an assessment rate based on the methodology described in the “Rate for Companies Not Selected for Individual Examination” section, above.

We intend to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided for by section 751(a)(2) of the Act: (1) the cash deposit rate for Chandan, Goodluck, and the companies not selected for individual examination will be the rate established in the final results of this administrative review; (2) for merchandise exported by producers or exporters not covered by this review but covered in a prior segment of this proceeding, the cash deposit rate will continue to be the company-specific rate published for the most recently-completed segment of this proceeding; (3) if the exporter is not a firm covered by this review, a previous review, or the original less than fair value (LTFV) investigation, but the producer is, then the cash deposit rate will be the rate established for the most recently-completed segment of this proceeding for the producer of the merchandise; (4) the case deposit rate for all other producers or exporters will continue to be 7.00 percent,¹⁵ the all-others rate established in the LTFV investigation. These cash deposits, when imposed, shall remain in effect until further notice.

¹⁵ See Stainless Steel Flanges from India: Notice of Court Decision Not in Harmony with the Final Determination of Antidumping Investigation; Notice of Amended Final Determination, 86 FR 50325 (August 30, 2021).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(a)(1) and 777(i) of the Act, and 19 CFR 351.221(b)(5).

Dated: March 1, 2023.
Abdelali Elouaradia,
Deputy Assistant Secretary for Enforcement and Compliance.

Appendix I

List of Topics Discussed in the Issues and Decision Memorandum

I. Summary

II. Background

III. Scope of the Order

IV. Changes Since the Preliminary Results

V. Discussion of the Issue Comment: Echjay No Shipment Status

VI. Recommendation

Appendix II

List of Companies Not Selected for Individual Examination

1. Ae Engineers & Exporters

2. Balkrishna Steel Forge Pvt. LTD

3. BFN Forgings Private Limited (formerly Bebitz Flanges Works Private Limited) ¹⁶

¹⁶ BFN Forgings Private Limited (formerly Bebitz Flanges Works Private Limited) is part of a collapsed entity with the following companies: Viraj Impoexpo, Ltd.; Bebitz USA, Inc. (Bebitz USA); Flanschen werk Bebitz GmbH (FBG); Viraj Alloys, Ltd.; Viraj Forgings, Ltd.; Viraj Profiles Limited (Viraj); and Viraj USA, Inc. (Viraj USA). See e.g., Stainless Steel Flanges from India: Final Affirmative Determination of Sales at Less Than Fair Value and Final Affirmative Critical Circumstance Determination, 83 FR 40745 (August 16, 2018). Commerce inadvertently referenced Viraj Profiles Limited as a separate entity under review in the Preliminary Results. See 87 FR at 66648.

4. Broadway Overseas Ltd.

5. CHW Forge Private

6. Dart Global Logistics Pvt.

7. Dongguan Good Luck Furniture Industrial Co., Ltd.

8. Dongguan Good Luck Industrial Co., Ltd.

9. Expeditors International

10. G I Auto Private

11. G.I. Auto Pvt. Ltd.

12. Hilton Metal Forging Limited

13. Jai Auto Pvt. Limited

14. Jay Jagdamba Limited

15. Katariya Steel Distributors

16. Kisaan Die Tech Pvt Ltd.

17. Pradeep Metals Limited

18. Rajan Techno Cast

19. Rajan Techno Cast Pvt. Ltd.

20. Shree Jay Jagdamba Flanges Private Limited

21. Transworld Enterprises

[FR Doc. 2023-04666 Filed 3-6-23; 8:45 am]

BILLING CODE 3510-DS-P